DEPARTMENT OF JUSTICE

Notice of Lodging of Consent Decree Under The Comprehensive Environmental Response, Compensation, and Liability Act (“CERCLA”)

Notice is hereby given that on October 12, 2010 a proposed consent decree (“proposed Decree”) in United States v. Rutgers Organics Corporation, Civil Action No. 04:10-cv-02113-JFM, was lodged with the United States District Court for the Middle District of Pennsylvania.

In this action under Section 107(a) of the Comprehensive Environmental Response, Compensation, and Liability Act, 42 U.S.C. 9607(a) (“CERCLA”), the United States sought to recover response costs incurred or to be incurred by the United States as a result of releases and threatened releases of hazardous substances from the chemical manufacturing facility operated by Rutgers Organics Company located at the Centre County Kepone Superfund Site in Centre County, Pennsylvania. The proposed Decree requires the defendant to pay $136,331.98 to the United States in reimbursement of past response costs, and obligates the defendant to perform the remedy that EPA selected for the surface soils at the Site. The proposed Decree provides the defendant with a covenant not to sue under Sections 106 and 107(a) of CERCLA, 42 U.S.C. 9606 and 9607(a).

The Department of Justice will receive for a period of thirty (30) days from the date of this publication comments relating to the proposed Decree. Comments should be addressed to the Assistant Attorney General, Environment and Natural Resources Division, and either emailed to pubcomment-ees.enrd@usdoj.gov or mailed to P.O. Box 7611, U.S. Department of Justice, Washington, DC 20044-7611, and should refer to United States v. Rutgers Organics Corporation, D.J. Ref. 90-11-3-1436/3.

The proposed Decree may be examined at the Office of the United States Attorney for the Middle District of Pennsylvania, William J. Nealon Federal Bldg. & Courthouse, 235 N. Washington Ave., Suite 311, Scranton, PA 18503, and at U.S. EPA Region 3, 1650 Arch Street, Philadelphia, PA 19103-2029. During the public comment period, the proposed Decree may also be examined on the following Department of Justice Web site: http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $53.75 (25 cents per page reproduction cost) payable to the U.S. Treasury or, if by email or fax, forward a check in that amount to the Consent Decree Library at the stated address.

Maureen Katz,
Assistant Chief, Environmental Enforcement Section, Environment and Natural Resources Division.

[FR Doc. 2010-26255 Filed 10-18-10; 8:45 am]

BILLING CODE 4410-15-P